DEPARTMENT OF COMMERCE

National Oceanic and Atmospheric Administration

Proposed Information Collection; Comment Request; Vessel Monitoring System Requirements for the Pacific Islands Fisheries

AGENCY: National Oceanic and Atmospheric Administration (NOAA), Commerce.

ACTION: Notice.

SUMMARY: The Department of Commerce, as part of its continuing effort to reduce paperwork and respondent burden, invites the general public and other Federal agencies to comment on proposed and/or continuing information collections, as required by the Paperwork Reduction Act of 1995.

DATES: To ensure consideration, written or on-line comments must be submitted on or before October 31, 2023.

ADDRESSES: Interested persons are invited to submit written comments to Adrienne Thomas, NOAA PRA Officer, at NOAA.PRA@noaa.gov. Please reference OMB Control Number 0648-0441 in the subject line of your comments. Do not submit Confidential Business Information or otherwise sensitive or protected information.

FOR FURTHER INFORMATION CONTACT: Requests for additional information or copies of the information collection instrument and instructions should be directed to Walter Ikehara, Fishery Information Specialist, 1845 Wasp Boulevard, Building 176, Honolulu, HI 96818; (808) 725-5175; or walter.ikehara@noaa.gov.

SUPPLEMENTARY INFORMATION:

I. Abstract

This request is for extension of a currently approved information collection. National Oceanic and Atmospheric Administration (NOAA) Fisheries, Pacific Islands Region, and the NOAA Office of Law Enforcement (OLE), Pacific Islands Division, collect vessel tracking information through a Vessel Monitoring System (VMS). The authority for this collection is specified at 50 CFR 665.19.

As part of fishery ecosystem plans developed under the authority of the Magnuson-Stevens Fishery Conservation and Management Act, owners of commercial fishing vessels in the Hawaii pelagic longline fishery, American Samoa pelagic longline fishery (only vessels longer than 50 feet), Northwestern Hawaiian Islands lobster fishery (currently inactive), and Northern Mariana Islands bottomfish fishery (only vessels longer than 40 feet) must allow NOAA to install VMS units on their vessels when directed by OLE personnel. VMS units automatically send periodic reports on the position of the vessel to OLE. NOAA uses the reports to monitor the vessel's location and activities, primarily to enforce regulated fishing areas. NOAA pays for all costs related to the VMS systems for the aforementioned fisheries. There is no public burden for the automatic messaging; however, VMS installation and maintenance are considered public burden.

Aside from updates to the burden estimates, there are no changes to the collection.

II. Method of Collection

Automatic electronic submission via satellite.

III. Data

OMB Control Number: 0648-0441.

Form Number: None.

Type of Review: Regular submission (extension of a current information collection).

Affected Public: Business or other for-profit organizations; individuals or households.

Estimated Number of Respondents: 69.

Estimated Time per Response: 4 hours for installation of a VMS unit; 2 hours for VMS unit replacement, and 1.5 hours for annual maintenance.

Estimated Total Annual Burden Hours: 131.

Estimated Total Annual Cost to Public: $0 in VMS system installation and maintenance, recordkeeping, or reporting costs.

Respondent's Obligation: Mandatory.

Legal Authority: 50 CFR 665.19.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-18916 Filed 8-31-23; 8:45 am]

BILLING CODE 3510-22-P